DEPARTMENT OF JUSTICE

Antitrust Division

Notice Pursuant to the National Cooperative Research and Production Act of 1993—Financial Services Technology Consortium, Inc.

Notice is hereby given that, on March 29, 2002, pursuant to Section 6(a) of the National Cooperative Research and Production Act of 1993, 15 U.S.C. 4301 et seq. (“the Act”), Financial Services Technology Consortium, Inc. (“Consortium”) has filed written notifications simultaneously with the Attorney General and the Federal Trade Commission disclosing changes in its membership status. The notifications were filed for the purpose of extending the Act's provisions limiting the recovery of antitrust plaintiffs to actual damages under specified circumstances. Specifically, BB&T Corporation, Charlotte, NC; Invidos Corporation, Oakland, CA; Softpro North America, Inc., Newark, DE; and Adhesion Technologies, Fremont, CA have been added as parties to this venture. Also, NYCE, Woodcliff Lake, NJ; and Inetco, Burnaby, British Columbia, CANADA have been dropped as parties to this venture.

No other changes have been made in either the membership or planned activity of the group research project. Membership in this group research project remains open, and Financial Services Technology Consortium, Inc. intends to file additional written notification disclosing all changes in membership.

On October 21, 1993, Financial Services Technology Consortium, Inc. filed its original notification pursuant to Section 6(a) of the Act. The Department of Justice published a notice in the Federal Register pursuant to Section 6(b) of the Act on December 14, 1993 (58 FR 65399).

The last notification was filed with the Department on December 31, 2001. A notice was published in the Federal Register pursuant to Section 6(b) of the Act on February 25, 2002 (67 FR 8560).

Constance K. Robinson,
Director of Operations, Antitrust Division.

[FR Doc. 02-10523 Filed 4-29-02; 8:45 am]

BILLING CODE 4410-11-M